DEPARTMENT OF COMMERCE

Office of the Secretary

Membership of the Performance Review Board for the Office of the Secretary

AGENCY: Office of the Secretary, Department of Commerce.

ACTION: Notice of membership on the Office of the Secretary Performance Review Board.

SUMMARY: The Office of the Secretary, Department of Commerce (DOC), announces the appointment of those individuals who have been selected to serve as members of the Performance Review Board. The Performance Review Board is responsible for reviewing performance appraisals and ratings of Senior Executive Service (SES) members and Senior Level (SL) members and making recommendations to the appointing authority on other performance management issues, such as pay adjustments and bonuses. The appointment of these members to the Performance Review Board will be for a period of twenty-four (24) months.

DATES: The period of appointment for those individuals selected for the Office of the Secretary Performance Review Board begins on October 5, 2022.

FOR FURTHER INFORMATION CONTACT: Christine Covington, U.S. Department of Commerce, Office of Human Resources Management, Office of Executive Resources, 14th and Constitution Avenue NW, Room 50021, Washington, DC 20230, at (202) 482-2613.

SUPPLEMENTARY INFORMATION: In accordance with 5 U.S.C. 4314(c)(4), the Office of the Secretary, Department of Commerce (DOC), announces the appointment of those individuals who have been selected to serve as members of the Office of the Secretary Performance Review Board. The Performance Review Board is responsible for (1) reviewing performance appraisals and ratings of Senior Executive Service (SES) and (SL) members and (2) making recommendations to the appointing authority on other performance management issues, such as pay adjustments and bonuses. The appointment of these members to the Performance Review Board will be for a period of twenty-four (24) months.

The name, position title, and type of appointment of each member of the Performance Review Board are set forth below:

1. LaMarsha DeMarr, Director, Human Resources Services, Enterprise Services, OS Career SES

2. Rachit Choksi, Director for Oversight, OS Non-Career SES

3. Michael Phelps, Director, Office of Budget, OS Career SES

4. Brian DiGiacomo, Assistant General Counsel for Employment, Litigation, and Information Law, OGC, Career SES

5. Anne Driscoll, Deputy Assistant Secretary for Industry and Analysis, ITA, Career SES

6. Robert Heilferty, Director Chief Counsel for Enforcement and Compliance OS, Career SES

7. Terri Ware, Deputy Chief Information Officer for Policy and Business Management OS, Career SES

8. Andrew Berke Senior Advisor (Special Representative for Broadband), NTIA, Non-Career SES

9. Angela Martinez, Denver Regional Director, EDA, Career SES

10. Beth Grossman, Assistant General Counsel for Employment Litigation, and Information Law, OS Career SES

11. Holden Hoofnagle, Director, OS Financial Management, OS Career SES

Dated: September 30, 2022.
Christine Covington,
Human Resources Specialist, Office of Executive Resources, Office of Human Resources Management, Office of the Secretary, Department of Commerce.

[FR Doc. 2022-21618 Filed 10-4-22; 8:45 am]

BILLING CODE 3510-25-P